DEPARTMENT OF COMMERCE

U.S. Census Bureau

Proposed Information Collection; Comment Request; Current Population Survey (CPS) School Enrollment Questions

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before October 5, 2012.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Kyra Linse, U.S. Census Bureau, DSD/CPS HQ-7H108F, Washington, DC 20233-8400, (301) 763-9280.

SUPPLEMENTARY INFORMATION:

I. Abstract

The Census Bureau plans to request clearance for updating the universe of collection of data concerning the school enrollment within the Current Population Survey (CPS) beginning in January 2013. Title 13, United States Code, Section 182, and Title 29, United States Code, Sections 1-9, authorize the collection of the CPS information. The Census Bureau and the Bureau of Labor Statistics (BLS) sponsor the current basic annual school enrollment questions, which have been collected annually in the CPS for 50 years.

The main school enrollment question and the two follow up questions have long been asked of people ages 16 to 24 and restricted for other ages. We would like to increase the age range for those asked these questions to 54 based on current trends in school enrollment for people over 24. This change in universe will result in the main question being asked about approximately 53,600 more people and answers for approximately 3,000 more people will need to be provided for the two follow up questions.

Raising the age of respondents to which the monthly enrollment question is provided will substantially increase the data resources with which analysts and researchers identify the effects of federal education and training policies on key, policy-relevant populations.

II. Method of Collection

The school enrollment information will be collected by both personal visit and telephone interviews. All interviews are conducted using computer-assisted interviewing.

III. Data

OMB Control Number: 0607-0049.

Form Number: There are no forms. We conduct all interviews on computers.

Type of Review: Regular submission.

Affected Public: Households.

Estimated Number of Respondents: 53,600 per month.

Estimated Time per Response: 15 seconds.

Estimated Total Annual Burden Hours: 1324.

Estimated Total Annual Cost: The only cost to the respondents is that of their time.

Respondents Obligation: Voluntary.

Legal Authority: Title 13 U.S.C. Section 182, and Title 29, U.S.C., Sections 1-9.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 31, 2012.
Glenna Mickelson,
Management Analyst, Office of the Chief Information Officer.

[FR Doc. 2012-19076 Filed 8-3-12; 8:45 am]

BILLING CODE 3510-07-P